DEPARTMENT OF DEFENSE

Department of the Air Force

Joint Navigation Conference

AGENCY: Department of the Air Force, DoD.

ACTION: Notice of meeting.

SUMMARY: This notice informs the public that the Joint Services Data Exchange (JSDE), in conjunction with the Air Force Space and Missile Systems Center (SMC) NAVSTAR GPS Joint Program Office and the Embedded GPS INS {Inertial Navigation System} (EGI) Program Office, will host a U.S. Government-wide Joint Navigation Conference (JNC) at the Rosen Centre, Orlando, FL, 11-14 April 2005. The 2005 JNC will be the largest U.S. military navigation conference of the year. This conference will focus on battlefield applications of GPS and other navigation solutions, as well as advances in Guidance, Navigation, and Control (GN&C), with emphasis on joint development, test, and support, logistics, and integration of the affordable GN&C systems. This is the only Navigation Systems Conference focused exclusively on Warfighter needs, issues, and experiences. Operational user participation is vital to the overall understanding of navigation warfare and is critical to the success of the JNC. The Conference will be held at the For Official Use Only (FOUO) designation and Secret levels. Attendance is restricted to U.S. Government, contractors, and invited Allied personnel. Advance visit requests and approvals are required of all attendees. Additional information, registration and security forms are provided for your convenience at the following Web site: http://www.jointnavigation.org. The Web site is the preferred method for registering to attend the conference. Visitors Access Request (VAR) may also be sent by fax to SMC/GPES 1-310-363-6387.

DATES: The suspense date for advance registration is 25 March 2005.

FOR FURTHER INFORMATION CONTACT: Point of Contact: GPUI at 1-310-363-6283 or 3145, GPS JPO User Integration Branch.

SUPPLEMENTARY INFORMATION: The civilian and military communities will focus on the use the battlefield applications of GPS and other navigation solutions; as well as advances in Guidance, Navigation, and Control (GN&C), with emphasis on joint development, test, and support, logistics, and integration of the affordable GN&C systems.

Albert F. Bodnar,
Federal Register, Federal Liaison Officer.

[FR Doc. 05-2491 Filed 2-8-05; 8:45 am]

BILLING CODE 5001-5-P